ENVIRONMENTAL PROTECTION AGENCY

[ER-FRL-6611-6]

Environmental Impact Statements; Notice of Availability

Responsible Agency: Office of Federal Activities, General Information (202) 564-7167 or www.epa.gov/oeca/ofa

Weekly receipt of Environmental Impact Statements

Filed October 02, 2000 Through October 06, 2000

Pursuant to 40 CFR 1506.9.

EIS No. 000345, FINAL EIS, COE, DE, Fenwick Island Feasibility Study, Storm Damage Reduction, Delaware Coast from Cape Henlopen to Fenwick Island, Protective Berm and Dune Construction, Community of Fenwick Island, Sussex County, DE, Due: November 13, 2000, Contact: Steve Allen (215) 656-6555.

EIS No. 000346, FINAL EIS, NPS, CA, Anacapa Island Restoration Project, Implementation, Channel Islands National Park, Ventura County, CA, Due: November 13, 2000, Contact: Alan Schmierer (415) 427-1441.

Amended Notices

EIS No. 000338, DRAFT EIS, STB, SD, WY, MN, Powder River Basin Expansion Project, Construction of New Rail Facilities, Finance Docket No. 33407 Dakota, Minnesota and Eastern Railroad, SD, WY and MN, Due: January 05, 2001, Contact: Victoria Rutson (202) 565-1545. Revision of FR notice published on 10/06/2000: CEQ Comment Date corrected from 11/20/2000 to 01/05/2001.

Dated: October 10, 2000.
Joseph C. Montgomery,
Director, NEPA Compliance Division, Office of Federal Activities.

[FR Doc. 00-26386 Filed 10-12-00; 8:45 am]

BILLING CODE 6560-50-P